DEPARTMENT OF AGRICULTURE

Forest Service

Tongass National Forest; Ketchikan Misty Fjords Ranger District; Alaska; South Revillagigedo Integrated Resource Project Environmental Impact Statement

AGENCY: Forest Service, USDA.

ACTION: Notice of intent to prepare an environmental impact statement.

SUMMARY: The Forest Service will prepare an Environmental Impact Statement (EIS) for the South Revillagigedo Integrated Resource Project (South Revilla IRP) which proposes to harvest timber, restore watershed function, enhance or restore fish and wildlife habitat, and develop recreation opportunities using an integrated approach in the Shelter Cove, Shoal Cove, and Thorne Arm areas within the Ketchikan Misty Fjords Ranger District, Tongass National Forest. The Proposed Action would harvest about 60 million board feet of timber from up to 6,000 acres over the course of 15 years. In addition, transportation management activities such as road construction, reconstruction, maintenance, and decommissioning are proposed. At the same time that it would approve the proposed project, the Forest Service may approve a project-specific Forest Plan amendment to ensure the project is consistent with the Plan.

DATES: Comments concerning the scope of the analysis must be received by September 7, 2018. Designated opportunities for additional comments will be provided. The draft EIS, is expected to be published July 2019. A final EIS is expected July, 2020.

ADDRESSES: Send or hand-deliver specific written comments to the Ketchikan Misty Fjords Ranger District, Attn: South Revilla IRP, 3031 Tongass Avenue, Ketchikan, Alaska 99901; telephone (907) 225-2148. The FAX number is (907) 225-8738. Comments may be emailed to: comments-alaska-tongass-ketchikan-mistyfiord@fs.fed.us with South Revilla IRP in the subject line. In all correspondence, include your name, address, and organization name if you are commenting as a representative of an organization.

FOR FURTHER INFORMATION CONTACT: Susan Howle, District Ranger, Ketchikan Misty Fjords Ranger District, 3031 Tongass Avenue, Ketchikan, Alaska 99901; Daryl Bingham, Planning Staff, (907) 228-4114, or Damien Zona, Interdisciplinary Team Leader, (907) 228-4126. Individuals who use telecommunication devices for the deaf may call the Federal Information Relay Service at 1-800-877-8339 between 8 a.m. and 8 p.m., Eastern Time, Monday through Friday.

SUPPLEMENTARY INFORMATION: This EIS will tier to and incorporate by reference the 2016 Tongass Land and Resource Management Plan Final EIS. The project area is located on Revillagigedo Island, approximately 17 miles northeast of Ketchikan, Alaska, within the Ketchikan Misty Fjords Ranger District, Tongass National Forest and encompasses about 58,159 acres of National Forest System lands.

Purpose and Need for Action

The purpose of the South Revilla IRP is to implement the 2016 Tongass Land and Resource Management Plan (Forest Plan) direction to move the project area toward the desired future conditions described in that plan. More specifically, the purpose is to manage the timber resource for production of sawtimber and other wood products, improve ecosystem and watershed health, and provide a range of recreation opportunities to meet public and tourism business demand through an integrated approach to meet multiple resource objectives. Maintaining existing, and expanding opportunities for the recreation and tourism sector would contribute to the local economy.

There is a need to provide a sustainable level of forest products to contribute to the economic sustainability of the region. Providing old-growth timber would preserve a viable timber industry during the transition to young-growth management and would provide jobs and opportunities for Southeast Alaska residents. Past management activities have affected watershed function in the project area. There is a need to improve and restore the natural range of habitat conditions in the project area to support viable wildlife, fish, and plant populations and to sustain diversity and production. Restoration would contribute to traditional, cultural, and subsistence uses by residents of Southeast Alaska. There is a need to provide sustainable recreation opportunities to a diverse and growing group of forest users. A sustainable recreation program in terms of operations and maintenance is needed to maintain infrastructure at an acceptable level.

Proposed Action

The Forest Service proposes to harvest timber, construct and reconstruct roads, restore watershed function, enhance or restore fish and wildlife habitat, and develop recreation opportunities in the Shelter Cove, Shoal Cove and Thorne Arm areas within the Ketchikan Misty Fjords Ranger District, Tongass National Forest. The project area includes the following land use designations (LUDs): Wilderness, Semi-remote Recreation, Old-growth Habitat, Special Interest Area, Scenic River, Modified Landscape, and Timber Production (Forest Plan, Chapter 3). Proposed activities will be consistent with Forest Plan direction. A proposed action map and information on the 2018 Shelter Cove and Saddle Lakes Recreation Area Master Plan is provided on the project web page at: https://www.fs.usda.gov/project/?project=53477.

Forest and Transportation Management

The Forest Service proposes to harvest about 60 million board feet of old-growth timber from up to 6,000 acres of forested land in the Modified Landscape and Timber Production LUDs using one or more timber sales, with activities that would occur over the course of 15 years. The Proposed Action would construct about 30 miles of new National Forest System road and reconstruct about 104 miles of existing roads. Temporary road construction would include about 105 miles. Existing rock quarries would be used as available or new quarries would be developed as necessary to provide raw materials for road construction. Existing log transfer facilities at Shelter Cove and Shoal Cove could be used. Young-growth harvest may be considered during this planning phase if it meets the purpose and need of the Proposed Action.

Watershed and Wildlife Habitat Management

Watershed enhancement and restoration activities would include instream and floodplain wood placement, riparian thinning, blasting of a partial fish barrier, invasive plant management and culvert replacement/removal. Wildlife habitat treatments would move habitat toward favorable wildlife conditions and will be planned based on project design and identified needs.

Recreation Management

Recreation opportunities will be developed using the 2018 Shelter Cove and Saddle Lakes Recreation Area Master Plan and ongoing public input. The Proposed Action will be refined through public involvement to meet the Purpose and Need for the project and consistency with the Forest Plan. The 2008 Access and Travel Management Plan and its associated Motor Vehicle Use map would be reviewed and updated as needed.

Proposed Forest Plan Amendment

The 2012 Planning Rule (36 CFR 219.13(b)(2)) requires the Responsible Official to identify which substantive requirements of the Rule are likely to be directly related to a proposed land management plan amendment (36 CFR 219.13(b)(5) and 36 CFR 219.8 through 219.11) in the initial notice for the amendment (36 CFR 219.16(a)(1)). At this time, the Responsible Official believes that a modification to Scenic Integrity Objectives in the Forest Plan may be necessary for this project (see Possible Alternatives section.)

Possible Alternatives

Scoping comments will be used to develop a range of alternatives to the Proposed Action in response to significant issues that are identified. A No-action Alternative will be analyzed as the baseline for comparison of action alternatives. Other alternative(s) may include a project-specific Tongass Forest Plan amendment to lower the Scenic Integrity Objectives (Forest Plan, p. 4-54 to 4-56), if needed, on portions of timber analysis areas in the project area to meet the Purpose and Need. If included in the South Revilla IRP, this plan amendment would only apply to the commercial timber sales undertaken as part of this specific project only; therefore, the notification requirements and objection procedures of 36 CFR 218, subparts A and B, apply rather than the notification requirements of 36 CFR 219. The 2012 Planning Rule (36 CFR 219.13(b)(2)) requires the Responsible Official to identify which substantive requirements of the Rule are likely to be directly related to the a proposed land management plan amendment. At this time, the Responsible Official believes the following requirements of the Rule are likely to apply to an amendment that would modify the Scenic Integrity Objectives of the Forest Plan for this project: 36 CFR 219.8(b)(2); 36 CFR 219.10(a)(1); and 36 CFR 219.10(b)(1)(i).

Lead and Cooperating Agencies

The Forest Service will be the lead agency for this project. Invited cooperating agencies include: Ketchikan Indian Community, Organized Village of Saxman, Metlakatla Indian Community, State of Alaska Department of Fish and Game, State of Alaska Department of Forestry, and Ketchikan Gateway Borough.

Responsible Official

The Responsible Official for this project is M. Earl Stewart, Forest Supervisor, Tongass National Forest.

Nature of Decision To Be Made

Given the Purpose and Need, the Forest Supervisor will review alternatives, and consider the environmental consequences to make decisions including: (1) Whether to select the Proposed Action or another alternative; (2) the locations, design, and scheduling of restoration activities, habitat improvements, road construction and reconstruction, and recreation development or decommissioning opportunities; (3) mitigation measures and monitoring; (4) whether there may be a significant restriction to subsistence resources; and (5) whether a project-specific Forest Plan amendment to lower Scenic Integrity Objectives (Forest Plan, p. 4-54 to 4-57) is necessary.

Preliminary Issues

Preliminary concerns identified by the interdisciplinary team include: (1) Designing an economical timber sale(s) that meets market demand; (2) effects of Forest Plan scenery direction on the ability to design an economical timber sale; (3) effects of timber harvest and road construction on wildlife habitat and travel corridors; (4) effects of timber harvest and road construction on watershed condition; (5) effects of timber harvest and road construction to rare and sensitive plants; and (6) effects of herbicide use on other resources.

Permits or Licenses Required

All necessary permits will be obtained prior to project implementation.

Scoping Process

This Notice of Intent initiates the scoping process, which guides the development of the EIS. To help determine the location and types of activities, and how they will occur across the landscape, the Forest Service is seeking information, comments, and assistance from Tribal Governments; Federal, State, and local agencies; stakeholders, individuals and organizations interested in or affected by the proposed activities. In addition, a legal notice will be published in the Ketchikan Daily News, the newspaper of record for this project. A scoping document has been prepared and will be distributed to interested parties who have subscribed through an electronic mailing list to receive project information. Individuals and organizations wishing to subscribe may do so at https://public.govdelivery.com/accounts/USDAFS/subscriber/new?preferences=true.

Additionally, there will be in-person opportunities for involvement including open houses and subsistence hearings held in Ketchikan, Alaska. Project information, meeting announcements, legal notices, and documents will be provided on the project web page at: https://www.fs.usda.gov/project/?project=53477.

Forest Service regulations at 36 CFR part 218, subparts A and B (78 FR 18481-18504) regarding the project-level predecisional administrative review process applies to projects and activities implementing land management plans that are not authorized under the Healthy Forests Restoration Act. The South Revilla IRP is an activity implementing the Forest Plan and is subject to 36 CFR 218.

Only individuals or entities who submit timely and specific written comments concerning this project during this or another public comment period established by the Responsible Official will be eligible to file an objection. It is important that reviewers provide their comments at such times and in such manner that they are useful to the agency's preparation of the EIS. Therefore, comments should be provided prior to the close of the comment period and should clearly articulate the reviewer's concerns and contentions.

Comments received in response to this solicitation, including names and addresses of those who comment, will be part of the public record for this proposed action. Comments submitted anonymously will be accepted and considered. Anonymous commenters will not gain standing to object as defined in 36 CFR 218.2.

Dated: July 26, 2018.
Chris French,
Associate Deputy Chief, National Forest System.

[FR Doc. 2018-16884 Filed 8-7-18; 8:45 am]

BILLING CODE 3411-15-P